DEPARTMENT OF DEFENSE

Office of the Secretary; Meeting of the Advisory Council on Dependents' Education

AGENCY: Department of Defense.

ACTION: Open meeting notice.

SUMMARY: Pursuant to the Federal Advisory Committee Act, Appendix 2 of title 5, United States Code, Public Law 92-463, notice is hereby given that a meeting of the Advisory Council on Dependents' Education (ACDE) is scheduled to be held.

The purpose of the ACDE is to recommend to the Director, Department of Defense Education Activity (DoDEA), general policies for the operation of the Department of Defense Dependents Schools (DoDDS); to provide the Director with information about effective educational programs and practices that should be considered by DoDDS; and to perform other tasks as may be required by the Secretary of Defense. The meeting emphases will be on ACDE/North Central Association (NCA) team visits, pilot, and NCA DoDEA-wide school reports.

DATES: May 3, 2002, from 8:30 a.m. to 5 p.m.

ADDRESSES: The meeting will be held at the Ramada Hotel Wiesbaden, Abraham Lincoln Strasse 17, Wiesbaden, 65189, Germany.

FOR FURTHER INFORMATION CONTACT: Ms. Marsha Jacobson, at 703-696-4235, extension 1990.

Dated: April 2, 2002.
Patricia L. Toppings,
Alternate OSD Federal Register Liaison Officer, Department of Defense.

[FR Doc. 02-8472 Filed 4-8-02; 8:45 am]

BILLING CODE 5001-08-M